DEPARTMENT OF THE INTERIOR

Bureau of Land Management

[AK-963-1410-HY-P; F-85448, DYA-15]

Alaska Native Claims Selection

AGENCY: Bureau of Land Management, DOI.

ACTION: Notice of decision approving lands for conveyance.

SUMMARY: As required by 43 CFR 2650.7(d), notice is hereby given that an appealable decision approving the reserved mineral estate for conveyance pursuant to the Alaska Native Claims Settlement Act, as amended, will be issued to Doyon, Limited. The minerals were reserved to the United States pursuant to the Act of March 8, 1922, as amended and supplemented, in the Native allotment certificate issued for U.S. Survey No. 4453B, Alaska. The lands to be conveyed contain 39.90 acres, and are located in T. 2 S., R. 8 W., Fairbanks Meridian, in the vicinity of Nenana, Alaska. Notice of the decision will also be published four times in the Fairbanks Daily News-Miner.

DATES: The time limits for filing an appeal are:

1. Any party claiming a property interest which is adversely affected by the decision shall have until November 26, 2003 to file an appeal.

2. Parties receiving service of the decision by certified mail shall have 30 days from the date of receipt to file an appeal.

Parties who do not file an appeal in accordance with the requirements of 43 CFR Part 4, Subpart E, shall be deemed to have waived their rights.

ADDRESSES: A copy of the decision may be obtained from: Bureau of Land Management, Alaska State Office, 222 West Seventh Avenue, #13, Anchorage, Alaska 99513-7599.

FOR FURTHER INFORMATION CONTACT: Christy Favorite, by phone at 907-271-5656, or by e-mail at cfavorit@ak.blm.gov.

Christy Favorite,
Land Law Examiner, Branch of Adjudication I.

[FR Doc. 03-27002 Filed 10-24-03; 8:45 am]

BILLING CODE 4310-88-P